DEPARTMENT OF COMMERCE

International Trade Administration

[A-570-851]

Certain Preserved Mushrooms From the People's Republic of China: Extension of Preliminary Results for Eleventh Antidumping Duty New Shipper Review

AGENCY: Import Administration, International Trade Administration, Department of Commerce.

EFFECTIVE DATE: September 12, 2007.

FOR FURTHER INFORMATION CONTACT: Thomas Martin or Mark Manning, AD/CVD Operations, Office 4, Import Administration, International Trade Administration, U.S. Department of Commerce, 14th Street and Constitution Avenue, NW., Washington, DC 20230; telephone: (202) 482-3936 and (202) 482-5253, respectively.

SUPPLEMENTARY INFORMATION: On April 2, 2007, the Department published a notice of initiation of a new shipper review of the antidumping duty order on certain preserved mushrooms from the PRC, covering the period of review (“POR”) February 1, 2006, to January 31, 2007, on Ayecue (Liaocheng) Foodstuff Co., Ltd. (“Ayecue”). See Certain Preserved Mushrooms from the People's Republic of China: Initiation of New Shipper Antidumping Duty Review, 72 FR 15657 (April 2, 2007).

Extension of Time Limit for Preliminary Results

Pursuant to section 751(a)(2)(B)(iv) of the Tariff Act of 1930, as amended (“the Act”), and section 351.214(i)(1) of the Department's regulations, the Department shall issue preliminary results in a new shipper review of an antidumping duty order within 180 days after the date on which the new shipper review was initiated. The Act and regulations further provide, however, that the Department may extend that 180-day period to 300 days if it determines that this review is extraordinarily complicated. See 19 CFR 351.214(i)(2) and 751 (a)(2)(B)(iv) of the Act.

The Department finds that this review is extraordinarily complicated and that it is not practicable to complete this new shipper review within the foregoing time period. Specifically, the Department must issue supplemental questionnaires to obtain additional information about (1) Ayecue's complex methodology for allocating consumption rates of factors of production, and (2) the bona fides of its U.S. sale. In addition, the Department needs additional time to conduct verification of the submitted information. Accordingly, the Department finds that additional time is needed in order to complete these preliminary results.

Section 751(a)(2)(B)(iv) of the Act and 19 CFR 351.214(i)(2) allow the Department to extend the deadline for the preliminary results to a maximum of 300 days from the date of initiation of the new shipper review. For the reasons noted above, we are extending the deadline for the completion of the preliminary results of this new shipper review to 300 days, i.e., from September 24, 2007, until no later than January 22, 2008.¹ The deadline for the final results of this new shipper review continues to be 90 days after the publication of the preliminary results.

¹ January 21, 2008, is Martin Luther King Jr. Day, which is a federal holiday. Therefore, the deadline for completing the preliminary results of this new shipper review shall be the next business day, January 22, 2008.

This notice is issued and published in accordance with sections 751(a)(2)(B)(iv) and 777(i)(1) of the Act, and section 19 CFR 351.214(i)(2).

Dated: September 7, 2007.
Gary Taverman,
Acting Deputy Assistant Secretary for Import Administration.

[FR Doc. E7-17999 Filed 9-11-07; 8:45 am]

BILLING CODE 3510-DS-P